DEPARTMENT OF TRANSPORTATION

Federal Transit Administration

Intent To Prepare an Environmental Impact Statement for High-Capacity Transit Improvements in the Leeward Corridor of Honolulu, HI

AGENCY: Federal Transit Administration, DOT.

ACTION: Notice of Intent to prepare an Environmental Impact Statement (EIS).

SUMMARY: The Federal Transit Administration (FTA) and the City and County of Honolulu, Department of Transportation Services (DTS) intend to prepare an EIS on a proposal by the City and County of Honolulu to implement a fixed-guideway transit system in the corridor between Kapolei and the University of Hawai'i at Mānoa with a branch to Waikīkī. Alternatives proposed to be considered in the draft EIS include No Build and two Fixed Guideway Transit alternatives.

The EIS will be prepared to satisfy the requirements of the National Environmental Policy Act of 1969 (NEPA) and its implementing regulations. The FTA and DTS request public and interagency input on the purpose and need to be addressed by the project, the alternatives to be considered in the EIS, and the environmental and community impacts to be evaluated.

DATES: Scoping Comments Due Date: Written comments on the scope of the NEPA review, including the project's purpose and need, the alternatives to be considered, and the related impacts to be assessed, should be sent to DTS by April 12, 2007. See ADDRESSES below.

Scoping Meetings: Meetings to accept comments on the scope of the EIS will be held on March 28 and 29, 2007 at the locations given in ADDRESSES below. On March 28, 2007, the public scoping meeting will begin at 6:30 p.m. and continue until 9 p.m. or until all who wish to provide oral comments have been given the opportunity. The meeting on March 29, 2007 will begin at 5 p.m. and continue until 8 p.m. or until all who wish to provide oral comments have been given the opportunity. The locations are accessible to people with disabilities. A court reporter will record oral comments. Forms will be provided on which to submit written comments. Project staff will be available at the meeting to informally discuss the EIS scope and the proposed project. Governmental agencies will be invited to a separate scoping meeting to be held during business hours. Further project information will be available at the scoping meetings and may also be obtained by calling (808) 566-2299, by downloading from http://www.honolulutransit.org, or by e-mailing info@honolulutransit.gov.

ADDRESSES: Written comments on the scope of the EIS, including the project's purpose and need, the alternatives to be considered, and the related impacts to be assessed, should be sent to the Department of Transportation Services, City and County of Honolulu, 650 South King Street, 3rd Floor, Honolulu, HI 96813, Attention: Honolulu High-Capacity Transit Corridor Project, or by the Internet at http://www.honolulutransit.org.

The scoping meetings will be held at Kapolei Hale at 1000 Uluohia Street, Kapolei, HI 96707 on March 28, 2007 from 6:30 p.m. to 9 p.m. and at McKinley High School at 1039 South King Street, Honolulu, HI 9814 on March 29, 2007 from 5 p.m. to 8 p.m.

FOR FURTHER INFORMATION CONTACT: Ms. Donna Turchie, Federal Transit Administration, Region IX, 201 Mission Street, Room 1650, San Francisco, CA 94105, Phone: (415) 744-2737, Fax: (415) 744-2726.

SUPPLEMENTARY INFORMATION:

I. Background

On December 7, 2005, FTA and DTS issued a notice of intent to prepare an Alternatives analysis followed by a separate EIS. The TS has now completed the planning alternatives analysis and, together with FTA, is proceeding with the NEPA review initiated through this scoping notice.

The planning Alternatives analysis, conducted in accordance with 49 United States Code (U.S.C.) 5309 as amended by the Safe, Accountable, Flexible, Efficient Transportation Equity Act: A Legacy for Users (SAFETEA-LU) (Pub. L. 109-59, 119 Stat. 1144), evaluated transit alternatives in the corridor from Kapolei to the University of Hawai‘i at Mānoa and to Waikīkī. Four alternatives were studied, including No build, Transportation system Management, Bus operating in a Managed Lane, and Fixed Guideway Transit. Fixed Guideway Transit was selected as the Locally Preferred Alternative. The planning Alternatives Analysis is available on the project's Web site at http://www.honolulutransit.org. The Honolulu City Council has established a fixed-guideway transit system connecting Kapolei and University of Hawai‘i at Mānoa, with a branch to Waikīkī, as the locally preferred alternative. the O‘ahu Metropolitan Planning Organization (OMPO) has included construction of rail transit system between Kapolei and the University of Hawai‘i at Mānoa and Waikīkī in the 2030 O‘ahu Regional Transportation Plan, April 2006.

II. Scoping

The FTA and DTS invite all interested individuals and organizations, and Federal, State, and local governmental agencies and Native Hawaiian organizations, to comment on the project's purpose and need, the alternatives to be considered in the EIS, and the impacts to be evaluated. During the scoping process, comments on the proposed statement of purpose and need should address its completeness and adequacy. Comments on the alternatives should propose alternatives that would satisfy the purpose and need at less cost or with greater effectiveness or less environmental or community impact and were not previously studied and eliminated for good cause. At this time, comments should focus on the scope of the NEPA review and should not state a preference for a particular alternative. The best opportunity for that type of input will be after the release of the draft EIS.

Following the scoping process, public outreach activities with interested parties or groups will continue throughout the duration of work on the EIS. The project Web site, http://www.honolulutransit.org, will be updated periodically to reflect the status of the project. Additional Opportunities for public participation will be announced through mailings, notices, advertisements, and press releases. those wishing to be placed on the project mailing list may do so by registering on the Web site at http://www.honolulutransit.org, or by calling (808) 566-2299.

III. Description of Study Area

The proposed project study area is the travel corridor between Kapolei and the University of Hawai‘i at Mānoa (UH Mānoa) and Waikākī. this narrow, linear corridor is confined by the Wai‘anae and Ko‘olau mountain ranges to the north (mauka direction) and the ocean to the south (makai direction). The corridor includes the majority of housing and employment on O‘ahu. The 2000 census indicates that 876,200 people live on O‘ahu. Of this number, over 552,000 people, or 63 percent, live within the corridor between Kapolei and Mānoa/Waikīkī. This area is projected to absorb 69 percent of the population growth projected to occur on O‘ahu between 2000 and 2030, resulting in an expected corridor population of 776,000 by 2030. Over the next twenty-three years, the ‘Ewa/Kapolei area is projected to have the highest rate of housing and employment growth on O‘ahu. The ‘Ewa/Kapolei area is developing as a “second city” to complement downtown Honolulu. The housing and employment growth in ‘Ewa is identified in the General Plan for the City and County of Honolulu.

IV. Purpose and Need

The purpose of the Honolulu High-Capacity Transit Corridor Project is to provide high-capacity, high-speed transit in the highly congested east-west transportation corridor between Kapolei and the University of Hawai‘i at Mānoa, as specified in the 2030 O‘ahu Regional Transportation Plan (ORTP). The project is intended to provide faster, more reliable public transportation services in the corridor than those currently operating in mixed-flow traffic, to provide basic mobility in areas of the corridor where people of limited income live, and to serve rapidly developing areas of the corridor. The project would also provide an alternative to provide automobile travel and improve transit linkages within the corridor. Implementation of the project, in conjunction with other improvements included in the ORTP, would moderate anticipated traffic congestion in the corridor. The project also supports the goals of the O‘ahu General Plan and the ORTP by serving areas designated for urban growth.

The existing transportation in infrastructure in the corridor between Kapolei and UH Mānoa is overburdened handling current levels of travel demand. Motorists and transit users experience substantial traffic congestion and delay at most times of the day, both on weekdays and on weekends. Average weekly peak-period speeds on the H-1 Freeway are currently less than 20 mph in many places and will degrade even further by 2030. Transit vehicles are caught in the same congestion. Travelers on O`ahu's roadways currently experience 51,000 vehicle hours of delay, a measure of how much time is lost daily by travelers stuck in traffic, on a typical weekday. This measure of delay is projected to increase to more than 71,000 daily vehicle hours of delay by 2030, assuming implementation of all the planned improvements listed in the ORTP (except for a fixed guideway system). Without these improvements, ORTP indicates that daily vehicle-hours of delay could increase to as much as 326,000 vehicle hours.

Currently, motorists traveling from West O`ahu to Downtown Honolulu experience highly congested traffic conditions during the a.m. peak period. By 2030, after including all of the planned roadway improvements in the ORTP, the level of congestion and travel time are projected to increase further. Average bus speeds in the corridor have been decreasing steadily as congestion has increased. “TheBus” travel times are projected to increase substantially through 2030. Within the urban core, most major arterial streets will experience increasing peak-period congestion, including Ala Moana Boulevard, Dillingham Boulevard, Kalākaua Avenue, Kapi`olani Boulevard, King Street, and Nimitz Highway. Expansion of the roadway system between Kapolei and UH Mānoa is constrained by physical barriers and by dense urban neighborhoods that abut many existing roadways. Given the current and increasing levels of congestion, a need exists to offer an alternative way to travel within the corridor independent of current and projected highway congestion.

As roadways become more congested, they become more susceptible to substantial delays caused by incidents, such as traffic accidents or heavy rain. Even a single driver unexpectedly braking can have a ripple effect delaying hundreds of cars. Because of the operating conditions in the study corridor, current travel times are not reliable for either transit or automobile trips. To get to their destination on time, travelers must allow extra time in their schedules to account for the uncertainty of travel time. This lack of predictability is inefficient and results in lost productivity. Because the bus system primarily operates in mixed-traffic, transit users experience the same level of travel time uncertainty as automobile users. A need exists to reduce transit travel times and provide a more reliable transit system.

Consistent with the General Plan for the City and County of Honolulu, the highest population growth rates for the island are projected in the `Ewa Development Plan area (comprised of the `Ewa, Kapolei and Makakilo communities), which is expected to grow by 170 percent between 2000 and 2030. This growth represents nearly 50 percent of the total growth projected for the entire island. The more rural areas of Wai`anae, Wahiawā, North Shore, Waimānalo, and East Honolulu will have lower population growth of between zero and 16 percent if infrastructure policies support the planned growth in the `Ewa Development Plan area. Kapolei, which is developing as a “second city” to Downtown Honolulu, is projected to grow by nearly 600 percent is 81,100 people, the `Ewa neighborhhood by 100 percent, and Makakilo by 125 percent between 2000 and 2030. Accessibility to the overall `Ewa Development Plan area is currently severely impaired by the congested roadway network, which will only get worse in the future. This area is less likely to develop as planned unless it is accessible to Downtown and other parts of O`ahu; therefore, the `Ewa, Kapolei, and Makakilo area needs improved accessibility to support its future growth as planned.

Many lower-income and minority workers live in the corridor outside of the urban core and commute to work in the Primary Urban Center Development Plan area. Many lower-income workers also rely on transit because of its affordability. In addition, daily parking costs in Downtown Honolulu are among the highest in the United States, further limiting this population's access to Downtown. Improvements to transit capacity and reliability will serve all transportation system users, including moderate- and low-income populations.

V. Alternatives

The alternatives proposed for evaluation in the EIS were developed through a planning Alternatives Analysis that resulted in selection of a Fixed Guideway Transit Alternative as the locally preferred alternative (LPA). FTA and DTS propose to consider the following alternatives:

• Future No Build Alternative, which would include existing transit and highway facilities and planned transportation projects (excluding the proposed project) anticipated to be operational by the year 2030. Bus service levels consistent with existing transit service policies is assumed for all areas within the project corridor under the Future No Build Alternative.

• Fixed Guideway Alternatives, which would include the construction and operation of a fixed guideway transit system in the corridor between Kapolei and UH Mānoa with a branch to Waikīkī. The draft EIS would consider five distinct transit technologies: Light trail transit, rapid rail transit, rubber-tired guided vehicles, a magnetic levitation system, and a monorail system. Comments on reducing the range of technologies under consideration are encouraged. The draft EIS also would consider two alignment alternatives. Both alignment alternatives would operate, for the most part, on a transit-guideway structure elevated above the roadway, with some sections at grade. Both alignment alternatives generally follow the route: North-South Road to Farrington Highway/Kamehameha Highway to Salt Lake Boulevard to Dillingham Boulevard to Nimitz Highway/Halekauwila Street. Both alignment alternatives would have a future extension from downtown Honolulu to UH Mānoa with a future branch to Waikīkī, and a future extension at the Waianae (western) end to Kalaeloa Boulevard in Kapolei. The second alignment alternative would have an additional loop created by a fork in the alignment at Aloha Stadium to serve Honolulu International Airport that rejoins the main alignment in the vicinity of the Middle Street Transit Center. The first construction phase for either of the Fixed Guideway Alternatives is currently expected to begin in the vicinity of the planned University of Hawai‘i West O‘ahu campus and extend to Ala Moana Center via Salt Lake Boulevard. The Build alternatives also include the construction of a vehicle maintenance facility, transit stations and ancillary facilities such as park-and-ride lots and traction-power substations, and the modification and expansion of bus service to maximize overall efficiency of transit operation.

Other reasonable alternatives suggested during the scoping process may be added if they were not previously evaluated and eliminated for good cause on the basis of the Alternatives Analysis and are consistent with the project's purpose and need. The planning Alternatives Analysis is available for public and agency review on the project Web site at http://www.honolulutransit.org. It is also available for inspection at the project office by calling (808) 566-2299 or by e-mailing info@honolulutransit.org.

VI. Probable Effects

The EIS will evaluate and fully disclose the environmental consequences of the construction and operation of a fixed guideway transit system on O‘ahu. The EIS will evaluate the impacts of all reasonable alternatives on land use, zoning, residential and business displacements, parklands, economic development, community disruptions, environmental justice, aesthetics, noise, wildlife, vegetation, endangered species, farmland, water quality, wetlands, waterways, floodplains, hazardous waste materials, and cultural, historic, and archaeological resources. To ensure that all significant issues related to this proposed action are identified and addressed, scoping comments and suggestions on more specific issues of environmental or community impact are invited from all interested parties. Comments and questions should be directed to the DTS as noted in the ADDRESSES section above.

VII. FTA Procedures

The EIS will be prepared in accordance with the National Environmental Policy Act of 1969 (NEPA), as amended, and its implementing regulations by the Council on Environmental Quality (CEQ) (40 CFR parts 1500-1508) and by the FTA and Federal Highway Administration (“Environmental Impact and Related Procedures” at 23 CFR part 771). In accordance with FTA regulation and policy, the NEPA process will also address the requirements of other applicable environmental laws, regulations, and executive orders, including, but not limited to: Federal transit laws [49 U.S.C. 5301(e), 5323(b), and 5324(b)], Section 106 of the National Historic Preservation Act, Section 4(f) (“Protection of Public Lands”) of the U.S. Department of Transportation Act (49 U.S.C. 303), Section 7 of the Endangered Species Act, and the Executive Orders on Environmental Justice, Floodplain Management, and Protection of Wetlands.

Dated: March 12, 2007.
Leslie T. Rogers,
Regional Administrator.

[FR Doc. 07-1237 Filed 3-14-07; 8:45 am]

BILLING CODE 4910-57-M